DEPARTMENT OF HOMELAND SECURITY

Coast Guard

33 CFR Part 165

[Docket Number USCG-2025-0366]

RIN 1625-AA87

Security Zone; Coast Guard Base San Juan, San Juan Harbor, Puerto Rico

AGENCY: Coast Guard, Department of Homeland Security.

ACTION: Final rule.

SUMMARY: The Coast Guard is revising the permanent security zone of the Coast Guard Base San Juan in San Juan, Puerto Rico. This security zone is necessary to protect the public and the Coast Guard base from potential subversive acts. This rulemaking prohibits entry of vessels or persons into this security zone extending 200 feet seaward from the water's edge of the Coast Guard Base San Juan unless specifically authorized by the Captain of the Port, Sector San Juan or their designated representative.

DATES: This rule is effective January 5, 2026.

ADDRESSES: To view available documents go to https://www.regulations.gov and search for USCG-2025-0366.

FOR FURTHER INFORMATION CONTACT: If you have questions about this rule, contact Lieutenant Commander Rachel E. Thomas, Sector San Juan, Waterways Management Division Chief, Coast Guard; telephone (571) 613-1417, email Rachel.E.Thomas@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background and Authority

The Coast Guard docking facilities at Base San Juan in La Puntilla Old San Juan, Puerto Rico are home to several Coast Guard cutters and Coast Guard small boats. The Coast Guard base has experienced a number of potential threat incidents, including unknown vessels mooring up to the Coast Guard piers and suspected photography surveillance by unknown individuals located near the Coast Guard base. These incidents pose a potential threat to national security and could lead to subversive acts against the personnel or equipment located at the Coast Guard base. The Captain of the Port (COTP) Sector San Juan has determined that potential threats associated with the access of unknown individuals to Base San Juan is a safety concern for anyone within 200 feet of the water's edge of the Coast Guard Base San Juan. This final rule reduces the existing security zone for Coast Guard Base San Juan described in 33 CFR 165.776 so it does not encroach on the navigable channel. The rule sustains a sufficient security zone to address the potential threat to national security by prohibiting all persons and vessels from entering in, transiting through or remaining in a security zone extending within 200 feet of the water's edge of the Coast Guard Base San Juan.

On July 30, 2025, the Coast Guard published a notice of proposed rulemaking (NRPM) titled, “Security Zone; Base San Juan, San Juan, PR” (90 FR 35839). In that NRPM, we stated why we issued the NRPM and invited comments on our proposed regulatory action related to this security zone amendment.

Under the authority in 46 U.S.C. 70051 and 70124, the COTP has determined that this rule is necessary to protect personnel, vessels, the marine environment, and the Coast Guard base from potential subversive acts. No vessel or person will be permitted to enter the security zone without obtaining permission from the COTP or their designated representative.

III. Discussion of Comments and the Rule

During the comment period that ended on August 29, 2025, we received one comment. The commenter supported the establishment of the security zone but asked why we chose 120 yards. The COTP San Juan has reevaluated this distance and determined that the proposed 120-yard zone was inconsistent with the proposed latitude and longitude coordinates and would encroach upon the navigable channel. Therefore, the final rule will implement a 200-foot security zone for the reasons set forth below. The commenter expressed support for the use of proper signage, barriers, or other appropriate boundaries to prevent inadvertent crossings. Barriers and boundaries will not be installed as they could interfere with operations. The revised security zone has been reduced in size and no longer encroaches upon the navigable channel, thereby minimizing the risk of inadvertent crossings. Further, the final rule establishes a uniform distance of 200 feet from the water's edge of Coast Guard Base San Juan, which is anticipated to be more intuitive for mariners.

The final rule also corrects two typographical errors in the NPRM proposed regulatory text by: (1) Eliminating the duplicate phrase “Security Zone;” in the title; and (2) correcting the name of “Sector San Juan” in the final sentence of the regulatory text, as the word “San” was inadvertently omitted in the NPRM.

This rule establishes a security zone extending 200 feet seaward from the water's edge of the base. No vessel or person is permitted to enter the security zone without obtaining permission from the COTP or their designated representative. The regulatory text appears at the end of this document.

IV. Regulatory Analyses

We developed this rule after considering numerous statutes and Executive orders related to rulemaking. Below we summarize our analyses based on a number of these statutes and Executive orders.

A. Impact on Small Entities

The Coast Guard certifies that, although some small entities may intend to transit the security zone above, this rule will not have a significant economic impact on a substantial number of small entities, as mandated by the Regulatory Flexibility Act of 1980, 5 U.S.C. 601-612 for the following reasons. Vessel traffic will be able to safely transit around this security zone. This security zone will only impact a small, designated area and only extends 200 feet from Base San Juan.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247).

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a security zone. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Revise § 165.776 to read as follows:

§ 165.776 Security Zone; Base San Juan, San Juan, PR.

(a) Location. The following area is a security zone: All waters from surface to bottom, within 200 feet of the water's edge of the Coast Guard Base San Juan, bounded by the easternmost point at 18°27′39″ N, 066°06′56″ W and westernmost point at 18°27′46″ N, 066°07′07″ W. These coordinates are based upon North American Datum 1983.

(b) Definitions. As used in this section, designated representative means a Coast Guard Patrol Commander, including a Coast Guard coxswain, petty officer, or other officer operating a Coast Guard vessel and a Federal, State, and local officer designated by or assisting the Captain of the Port (COTP) Sector San Juan in the enforcement of the security zone.

(c) Regulations. (1) Under the general security zone regulations in subpart D of this part, you may not enter the security zone described in paragraph (a) of this section unless authorized by the COTP Sector San Juan or a designated representative.

(2) To seek permission to enter, contact the COTP Sector San Juan or a designated by telephone at (787) 289-2041, or via VHF-FM channel 16 to request authorization. Those in the security zone must comply with all lawful orders or directions given to them by the COTP Sector San Juan or the designated representative.

Dated: November 20, 2025.
Robert E. Stiles,
Captain, U.S. Coast Guard, Acting Captain of the Port, Sector San Juan.

[FR Doc. 2025-21909 Filed 12-3-25; 8:45 am]

BILLING CODE 9110-04-P